GENERAL SERVICES ADMINISTRATION

41 CFR Parts 102-37 and 102-39

[FMR Amendments 2006-01 and 2006-02; Corrections]

Federal Management Regulation; Corrections

AGENCY: General Services Administration (GSA).

ACTION: Final rule; corrections.

SUMMARY: Federal Management Regulation amendment numbers are being corrected to correspond with the effective and publication dates as listed in FMR Case 2006-102-2, Donation of Surplus Personal Property, which was published in the Federal Register at 71 FR 23867, April 25, 2006 and FMR Case 2006-102-3, Replacement of Personal Property Pursuant to the Exchange/Sale Authority, which was published in the Federal Register at 71 FR 20900, April 24, 2006.

DATES: Effective Date: May 5, 2006.

FOR FURTHER INFORMATION CONTACT: Laurieann Duarte, The Regulatory Secretariat, Room 4035, GS Building, Washington, DC, 20405, (202) 208-7312, for information pertaining to status or publication schedules. Please cite FMR Amendments 2006-01 and 2006-02 Corrections.

Corrections

1. In the final rule document appearing in the issue of April 24, 2006:

On page 20900, first column, sixth line under “Headings”, revise the “Agency Number”, to read “[FMR Amendment 2006-01; FMR Case 2006-102-3]”.

2. In the final rule document appearing in the issue of April 25, 2006:

On page 23867, second column, sixth line under “Headings”, revise “Agency Number” to read “[FMR Amendment 2006-02; FMR Case 2006-102-2]”.

Dated: April 27, 2006.
Laurieann Duarte,
Supervisor, Regulatory Secretariat.

[FR Doc. 06-4127 Filed 5-4-06; 8:45 am]

BILLING CODE 6820-14-S